DEPARTMENT OF COMMERCE

National Oceanic and Atmospheric Administration

RIN 0648-XF912

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team (CPT) will meet in January, in Anchorage, AK.

DATES: The meeting will be held on Tuesday, January 9, 2018 through Thursday, January 11, 2018, from 9 a.m. to 5 p.m.

ADDRESSES: The meeting will be held at the Hilton Hotel in the Aspen/Spruce Room, 500 W 3rd Ave., Anchorage, AK 99501.

Council address: North Pacific Fishery Management Council, 605 W 4th Ave., Suite 306, Anchorage, AK 99501-2252; telephone: (907) 271-2809.

FOR FURTHER INFORMATION CONTACT: Diana Stram, Council staff; telephone: (907) 271-2809.

SUPPLEMENTARY INFORMATION:

Agenda

Tuesday, January 9, 2018 Through Thursday, January 11, 2018

The CPT will review and make recommendations on:

1. Norton Sound Red King Crab final assessment OFL/ABC

2. Modeling discussions including: Chela height issue with respect to survey data, weighting and lambdas in Tier 3 and other assessments, terminal year of recruitment, MCMC posterior draws, Issues of bimodality as with snow crab in the 2017 assessment

3. Dynamic B0 for all applicable assessments and how to implement and interpret

4. Norton Sound Red King Crab final assessment OFL/ABC

5. ADFG harvest strategy uncertainties considered in TAC setting process for all stocks

6. Potential Alaska Board of Fisheries proposal for Aleutian Island golden king crab harvest strategy change

7. Format of SAFE Chapters

8. Preliminary results of Aleutian Island golden king crab genetic work

9. Use of acoustic bottom typing to inform bottom trawl sampling efficiency for snow crab

10. Crab Economic SAFE

The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: December 19, 2017.
Tracey L. Thompson,
Acting Deputy Director, Office of Sustainable Fisheries, National Marine Fisheries Service.

[FR Doc. 2017-27593 Filed 12-21-17; 8:45 am]

BILLING CODE 3510-22-P